DEPARTMENT OF TRANSPORTATION

Federal Aviation Administration

14 CFR Part 39

[Docket No. 2000-NM-43-AD; Amendment 39-11907; AD 2000-19-06]

RIN 2120-AA64

Airworthiness Directives; Airbus Model A330 and A340 Series Airplanes

AGENCY: Federal Aviation Administration, DOT.

ACTION: Final rule; request for comments.

SUMMARY: This amendment adopts a new airworthiness directive (AD), applicable to certain Airbus Model A330 and A340 series airplanes. This action requires modifying the bottom skin panel 3 (located aft of the rear spar). This action is necessary to prevent corrosion and consequent reduced structural integrity of the wings due to lack of cold expansion of an existing drain hole, which could lead to cracks initiating from that drain hole; and the incorrect location of the drain hole, which can allow moisture to be trapped. This action is intended to address the identified unsafe condition.

DATES: Effective October 5, 2000.

The incorporation by reference of certain publications listed in the regulations is approved by the Director of the Federal Register as of October 5, 2000.

Comments for inclusion in the Rules Docket must be received on or before October 20, 2000.

ADDRESSES: Submit comments in triplicate to the Federal Aviation Administration (FAA), Transport Airplane Directorate, ANM-114, Attention: Rules Docket No. 2000-NM-43-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-43-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: The Direction Générale de l'Aviation Civile (DGAC), which is the airworthiness authority for France, notified the FAA that an unsafe condition may exist on certain Airbus Model A330 and A340 series airplanes. The DGAC advises that cold expansion of the existing drain hole in bottom skin panel 3 (located aft of the rear spar) was not performed during manufacture of the airplane. Such lack of cold expansion could lead to cracks initiating from the drain hole. In addition, in-service experience has shown that the location of this drain hole traps moisture which results in corrosion. These conditions, if not corrected, could result in corrosion and consequent reduced structural integrity of the wings.

Explanation of Relevant Service Information

Airbus has issued Service Bulletins A330-57-3060 (for Model A330 series airplanes) and A340-57-4068 (for Model A340 series airplanes), both Revision 01, both dated December 6, 1999. These service bulletins describe procedures for modifying the bottom skin panel 3 (located aft of the rear spar) on the left and right wings. The modification involves cold expanding the existing drain hole [including performing a high frequency eddy current (HFEC) rototest inspection of the drain hole for cracks, cold expanding the drain hole, and drilling and reaming the drain hole to a specific diameter]. The modification also entails adding another drain hole, if necessary (including drilling and reaming the new drain hole to a specific diameter, and cold expanding the drain hole).

Accomplishment of the actions specified in the service bulletins is intended to adequately address the identified unsafe condition. The DGAC classified these service bulletins as mandatory and issued French airworthiness directives 2000-158-119(B) and 2000-157-145(B), both dated April 5, 2000, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design registered in the United States, this AD is being issued to prevent corrosion and consequent reduced structural integrity of the wings due to lack of cold expansion of an existing drain hole, which could lead to cracks initiating from that drain hole; and the incorrect location of the drain hole, which can allow moisture to be trapped. This AD requires accomplishment of the actions specified in the service bulletins described previously, except as discussed below.

Difference Between Service Bulletins and This AD

Operators should note that, although the service bulletins specify that the manufacturer may be contacted for disposition of certain repair conditions, this AD requires the repair of those conditions to be accomplished in accordance with a method approved by the FAA.

Cost Impact

Three of the Model A330 series airplanes affected by this action are on the U.S. Register; however, the FAA has been advised that the actions required by this AD have been accomplished on those airplanes. None of the Model A340 series airplanes affected by this action are on the U.S. Register. All Model A340 series airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 5 work hours to accomplish the required actions, at an average labor rate of $60 per work hour. Based on these figures, the cost impact of this AD would be $300 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-43-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-19-06 Airbus Industrie: Amendment 39-11907. Docket 2000-NM-43-AD.

Applicability: Model A330-202, -223, -301, -321, and -322 series airplanes having manufacturer's serial numbers (MSN) 0012 through 0244 inclusive; and Model A340-211, -212, -213, -311, -312, and -313 series airplanes having MSN's 0002 through 0245 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent corrosion and consequent reduced structural integrity of the wings due to lack of cold expansion of an existing drain hole, which could lead to cracks initiating from that drain hole; and the incorrect location of the drain hole, which can allow moisture to be trapped; accomplish the following:

Modification

(a) Modify the bottom skin panel 3, located aft of the rear spar on the left and right wings, by cold expanding the existing drain hole [including performing a high frequency eddy current (HFEC) rototest inspection of the hole for cracks, cold expanding the hole, and drilling and reaming the hole to a specific diameter], and by adding another drain hole, as necessary (including drilling and reaming the new hole to a specific diameter, and cold expanding the hole). Accomplish the actions in accordance with Airbus Service Bulletin A330-57-3060 (for Model A330 series airplanes) or A340-57-4068 (for Model A340 series airplanes), both Revision 01, both dated December 6, 1999; as applicable; at the time specified in paragraph (a)(1), (a)(2), (a)(3), or (a)(4) of this AD, as applicable.

(1) For Model A330-202 and -223 series airplanes: Prior to the accumulation of 9,600 total landings or 32,600 total flight hours, whichever occurs first.

(2) For Model A330-301, -321, and -322 series airplanes: Prior to the accumulation of 15,000 total landings or 51,000 total flight hours, whichever occurs first.

(3) For Model A340-211, -212, -213, -311, -312, and -313 series airplanes on which Airbus Modification 41300 has NOT been accomplished prior to the effective date of this AD: Prior to the accumulation of 10,800 total landings or 48,000 total flight hours, whichever occurs first.

(4) For Model A340-213 and -313 series airplanes on which Airbus Modification 41300 has been accomplished prior to the effective date of this AD: Prior to the accumulation of 8,100 total landings or 36,000 total flight hours, whichever occurs first.

Certain Repairs

(b) If any damage is found during accomplishment of the modification required by paragraph (a) of this AD, and the applicable service bulletin specifies to contact Airbus for appropriate action: Prior to further flight, repair in accordance with a method approved by the Manager, International Branch, ANM-116, FAA, Transport Airplane Directorate. For a repair method to be approved by the Manager, International Branch, ANM-116, as required by this paragraph, the Manager's approval letter must specifically reference this AD.

Alternative Methods of Compliance

(c) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (b) of this AD, the actions shall be done in accordance with Airbus Service Bulletin A330-57-3060, Revision 01, dated December 6, 1999; or Airbus Service Bulletin A340-57-4068, Revision 01, dated December 6, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directives 2000-158-119(B) and 2000-157-145(B), both dated April 5, 2000.

Effective Date

(f) This amendment becomes effective on October 5, 2000.

Issued in Renton, Washington, on September 13, 2000.
Donald L. Riggin,
Acting Manager, Transport Airplane Directorate, Aircraft Certification Service.

[FR Doc. 00-23999 Filed 9-19-00; 8:45 am]

BILLING CODE 4910-13-P